NATIONAL SCIENCE FOUNDATION

Sunshine Act Meetings

The National Science Board (NSB) hereby gives notice of the scheduling of meetings for the transaction of NSB business as follows:

TIME AND DATE: Tuesday, August 3, 2021, from 1:00 p.m. to 5:55 p.m., and Wednesday, August 4, 2021, from 11:00 a.m. to 5:55 p.m. EDT.

PLACE: These meetings will be held by videoconference. There will be no in-person meetings. The public may observe the public meetings, which will be streamed to the National Science Foundation YouTube channel. For meetings on Tuesday, August 3, go to: https://www.youtube.com/watch?v=BtZZe7TMYqY. For meetings on Wednesday, August 4, go to: https://www.youtube.com/watch?v=q-sskuQSSuE.

STATUS: Parts of these meetings will be open to the public. The rest of the meetings will be closed to the public. See full description below.

MATTERS TO BE CONSIDERED:

Tuesday, August 3, 2021

Plenary Board Meeting

Open Session: 1:00 p.m.-2:50 p.m.

• NSB Chair's Remarks

• NSF Director's Remarks

• NSB Chair Activity Summary

• Community Colleges: Opening Doors to STEM Talent Everywhere

Committee on National Science and Engineering Policy (SEP)

Open Session: 3:20 p.m.-3:55 p.m.

• Committee Chair's Remarks

• Approval of Prior Committee Minutes

• Update on Indicators 2022

• Update on Policy Products

• Themes and Messages for Indicators' Board Messages Document

Committee on Strategy (CS)

Open Session: 3:55 p.m.-4:20 p.m.

• Committee Chair's Remarks

• Approval of Prior Minutes

• FY 2021 and 2022 Budget Update

• CS TIP Subcommittee

Committee on Strategy (CS)

Closed Session: 4:30 p.m.-5:55 p.m.

• Committee Chair's Remarks

• Approval of Prior Minutes

• Strategic Plan 2022-2026 Update

• Follow-up on Strategic Budget Discussions

• FY 2023 Budget Submission Development

Wednesday, August 4, 2021

Plenary Board Meeting

Open Session: 11:00 a.m.-12:30 p.m.

• Vision 2030 Year 1 Retrospective and Year 2 Priorities

• Strategies for Institutional Diversity, Equity, and Inclusion Accountability

Plenary Board

Closed Session: 1:10 p.m.-1:55 p.m.

• NSB Chair's Remarks

• Approval of Prior Minutes

• Director's Remarks

• Closed Committee Reports

• Awards & Facilities Closed Meeting Report Out and Discussion

• Vote: Rubin Observatory Action

• Vote: Arecibo Observatory Action

• Vote to Enter Executive Session

Executive Closed Session: 1:55 p.m.-2:55 p.m.

• NSB Chair's Remarks

• Approval of Prior Minutes

• NSF Structural Elements Discussion

○ Personnel updates

○ Planning for Structural Changes

• Nominations for the NSB Class of 2022-2028

Committee on Oversight (CO)

Open Session: 3:25 p.m.-4:55 p.m.

• Committee Chair's Remarks

• Approval of Prior Minutes

• Merit Review Digest Discussion and Vote, and Overview Discussion

• Diversity, Equity, Inclusion, and Accessibility Updates

• Inspector General's Update

• Chief Financial Officer's Update

Plenary Board

Open Session: 5:05 p.m.-5:55 p.m.

• NSB Chair's Remarks

• Approval of Prior Minutes

• NSF Director's Remarks

Senior Staff Updates

Office of Legislative and Public Affairs Update

• EE Open Committee Report and Discussion

• Open Committee Reports

• Votes:

○ 2022 NSB Meeting Calendar

○ Merit Review Digest

Meeting Adjourns: 5:55 p.m.

MEETINGS THAT ARE OPEN TO THE PUBLIC:

Tuesday, August 3, 2021

1:00 p.m.-2:50 p.m. Plenary NSB

3:20 p.m.-3:55 p.m. SEP

3:55 p.m.-4:20 p.m. CS

Wednesday, August 4, 2021

11:00 a.m.-12:30 p.m. Plenary NSB

3:25 p.m.-4:55 p.m. CO

5:05 p.m.-5:55 p.m. Plenary

MEETINGS THAT ARE CLOSED TO THE PUBLIC:

Tuesday, August 3, 2021

4:30 p.m.-5:55 p.m. CS

August 4, 2021

1:10 p.m.-1:55 p.m. Plenary, including

1:55 p.m.-2:55 p.m. Executive closed session

CONTACT PERSONS FOR MORE INFORMATION: The NSB Office contact is Chris Blair, cblair@nsf.gov, 703-292-7000. The NSB Public Affairs contact is Nadine Lymn, nlymn@nsf.gov, 703-292-2490. The following persons will be available to provide technical support in accessing the YouTube video: Angel Ntumy (antumy@associates.nsf.gov); Phillip Moulden (pmoulden@associates.nsf.gov).

SUPPLEMENTAL INFORMATION: The authority for submitting this notice is the National Science Foundation Act, as amended (42 U.S.C. 1862n-5), and the Government in the Sunshine Act (5 U.S.C. 552b). All open sessions of the meeting will be webcast live on the NSB YouTube channel. Please feel free to share these links with your colleagues:

Tuesday, August 3— https://www.youtube.com/watch?v=BtZZe7TMYqY

Wednesday, August 4— https://www.youtube.com/watch?v=q-sskuQSSuE

Please refer to the NSB website for additional information. You will find any updated meeting information and schedule updates (time, place, subject matter, or status of meeting) at https://www.nsf.gov/nsb/meetings/notices.jsp.

Members of the public are advised that the NSB provides some flexibility around its meeting times. A meeting may be allowed to run over by as much as 15 minutes if the Chair decides the extra time is warranted. The next meeting will start no later than 15 minutes after the noticed start time. If a meeting ends early, the next meeting may start up to 15 minutes earlier than the noticed start time. NSB and committee meetings will not vary from noticed times by more than 15 minutes. Open meetings can also be watched in their entirety later through the YouTube link.

Chris Blair,
Executive Assistant to the National Science Board Office.

[FR Doc. 2021-16896 Filed 8-4-21; 11:15 am]

BILLING CODE 7555-01-P